DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents can be properly assessed. Currently, the Bureau of Labor Statistics (BLS) is soliciting comments concerning the proposed request for a new OMB control number for the “Current Population Survey (CPS) Unemployment Insurance (UI) Non-Filer Supplement” to be conducted in May 2018 and September 2018. A copy of the proposed information collection request (ICR) can be obtained by contacting the individual listed below in the addresses section of this notice.

DATES: Written comments must be submitted to the office listed in the ADDRESSES section of this notice on or before March 5, 2018.

ADDRESSES: Send comments to Erin Good, BLS Clearance Officer, Division of Management Systems, Bureau of Labor Statistics, Room 4080, 2 Massachusetts Avenue NE, Washington, DC 20212. Written comments may also be transmitted by fax to 202-691-5111 (This is not a toll free number).

FOR FURTHER INFORMATION CONTACT: Erin Good, BLS Clearance Officer, 202-691-7763. (See ADDRESSES section.)

SUPPLEMENTARY INFORMATION:

I. Background

A version of the CPS Unemployment Insurance (UI) Non-Filer Supplement was last collected in 2005 under an interagency agreement between the Department of Labor and the United States Census Bureau.

The UI Non-Filer Supplement will gather information on people who are unemployed but also on a subset of those who are not in the labor force. Information will be collected about UI participation and reasons for not participating. The supplement also contains questions about people's job search experience, such as information about jobs for which they have applied and whether they would accept a job similar to their last job but at lower pay. Additionally, this supplement contains questions about the job search process of unemployed individuals and the difficulties these seekers have in finding new employment.

Because this supplement is part of the CPS, the same detailed demographic information collected in the CPS will be available on respondents to the supplement. Comparisons between UI filers and non-filers will be possible across characteristics such as sex, race and ethnicity, age, and educational attainment.

UI benefits provide temporary financial assistance to the unemployed who meet certain eligibility criteria and can also help protect the economy during economic downturns. Work patterns have changed since the supplement was last collected in 2005, making updated information of paramount importance. Data gathered in this supplement will help measure the effectiveness of current UI programs, identify possible shortcomings in existing UI programs, and assist policy makers in developing more effective policies.

II. Current Action

Office of Management and Budget clearance is being sought for a new OMB control number for the CPS UN Non-Filer Supplement to the CPS.

This collection is needed to provide the Nation with timely information about individuals who do not file for UI benefits and their reasons for not doing so. In addition, data from the supplement will provide a fuller picture about how the unemployed search for jobs and the hardships they face when doing so.

III. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Type of Review: New collection (Request for a new OMB control Number).

Agency: Bureau of Labor Statistics.

Title: CPS UI Non-Filer Supplement.

OMB Number: 1220-NEW.

Affected Public: Households.

Total Respondents: 60,000.

Frequency: Once.

Total Responses: 60,000.

Average Time per Response: 2 minutes.

Estimated Total Burden Hours: 2,000 hours.

Total Burden Cost (capital/startup): $0.

Total Burden Cost (operating/maintenance): $0.

Comments submitted in response to this notice will be summarized and/or included in the request for Office of Management and Budget approval of the information collection request; they also will become a matter of public record.

Signed at Washington, DC, this 21st day of December 2017.
Kimberley Hill,
Chief, Division of Management Systems, Bureau of Labor Statistics.

[FR Doc. 2017-28291 Filed 12-29-17; 8:45 am]

BILLING CODE 4510-24-P